DEPARTMENT OF TRANSPORTATION

Federal Aviation Administration

Notice of Approval of Finding of No Significant Impact (FONSI) on a Final Environmental Assessment (Final EA); Quad City International Airport; Moline, IL

AGENCY: Federal Aviation Administration (FAA), DOT.

ACTION: Notice of approval of documents.

SUMMARY: The Federal Aviation Administration (FAA) is issuing this notice to advise the public of the approval of a Finding of No Significant Impact (FONSI) on an Environmental Assessment for proposed Federal actions at Quad City International Airport, Moline, Illinois. The FONSI specifies that the proposed federal actions and local development projects are consistent with existing environmental policies and objectives as set forth in the National Environmental Policy Act of 1969 and will not significantly affect the quality of the environment.

A description of the proposed Federal actions is: (a) To issue an environmental finding to allow approval of the Airport Layout Plan (ALP) for the development items listed below; (b) approval of the Airport Layout Plan (ALP) for the development items listed below; and (c) establish eligibility of the Metropolitan Airport Authority of Rock Island County to compete for Federal funding for the development projects depicted on the Airport Layout Plan.

The specific items in the local airport development project include: Construction, lighting and marking of a 500 foot long by 150 foot wide extension to Runway 5 that includes grading and drainage; Construction, lighting and marking of parallel and connecting taxiways to the Runway 5 extension; Construction of Taxiway Q; Widening of Taxiway F; Expansion of the General Aviation Ramp; Installation of a CAT II/III ILS to Runway 9 that includes an Approach Lighting System with sequenced Flashing Lights (ALSF-2), Touchdown Zone Lighting (TDZL) and Runway Centerline Lighting; Creation of a Standard CAT II/III Instrument Approach Procedure (SIAP) for Runway 9; Installation of a Mid-Field Runway Visual Range (RVR) Sensor; Relocation of the Runway 5 Visual Approach Decent Indicator (VADI); Construction of detention areas to mitigate approximately 0.6 acres of potential floodplain encroachment; and Approval of the Quad City International Airport's Layout Plan (ALP).

Copies of the environmental decision and the Final EA are available for public information review during regular business hours at the following locations:

1. Quad City International Airport, 2200 69th Avenue, Moline, IL 61265.

2. Division of Aeronautics-Illinois Department of Transportation, One Langhorne Bond Drive, Capital Airport, Springfield, IL 62707.

3. Chicago Airport District Office, Room 320, Federal Aviation Administration, 2300 East Devon Avenue, Des Plaines, Illinois 60018.

FOR FURTHER INFORMATION, CONTACT: E. Lindsay Butler, Airports Environmental Program Manager, Federal Aviation Administration, Chicago Airports District Office, Room 320, 2300 East Devon Avenue, Des Plaines, Illinois 60018. Ms. Butler can be contacted at (847) 294-7723 (voice), (847) 294-7046 (facsimile) or by e-mail at lindsay.butler@faa.gov.

Issued in Des Plaines, Illinois, on February 15, 2006.
Larry H. Ladendorf,
Acting Manager, Chicago Airports District Office, FAA, Great Lakes Region.

[FR Doc. 06-1948 Filed 3-1-06; 8:45 am]

BILLING CODE 4910-13-M